ENVIRONMENTAL PROTECTION AGENCY

40 CFR Part 52

[EPA-R07-OAR-2013-0585; FRL 9903-13-Region 7]

Approval and Promulgation of Implementation Plans; State of Missouri; Restriction of Emission of Sulfur Compounds and Emissions Banking and Trading

AGENCY: Environmental Protection Agency (EPA).

ACTION: Proposed rule.

SUMMARY: EPA is proposing to approve two revisions to the State Implementation Plan (SIP) for Missouri that were submitted on September 5, 2012. The revision to the Missouri rule “Restriction of Emission of Sulfur Compounds” will remove redundant sulfur dioxide standards and outdated compliance dates. Due to these revisions, several within-rule references will be amended. Revisions to the Missouri rule “Emissions Banking and Trading” will remove all definitions, as they are now included in the general definitions rule. The reference to the state's Ambient Air Quality Standards rule that is included in the definition of National Ambient Air Quality Standards will also be removed. The revisions to Missouri's rules do not have an adverse affect on air quality. EPA's approval of this SIP revision is being done in accordance with the requirements of the Clean Air Act (CAA).

DATES: Comments on this proposed action must be received in writing by December 23, 2013.

ADDRESSES: Submit your comments, identified by Docket ID No. EPA-R07-OAR-2013-0585, by mail to Amy Bhesania, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Amy Bhesania at (913) 551-7147, or by email at bhesania.amy@epa.gov.

SUPPLEMENTARY INFORMATION: In the final rules section of this issue of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule, and if that part can be severed from the remainder of the rule, EPA may adopt as final those parts of the rule that are not the subject of an adverse comment. For additional information, see the direct final rule which is located in the rules section of this issue of the Federal Register.

Dated: November 8, 2013.
Karl Brooks,
Regional Administrator, Region 7.

[FR Doc. 2013-28001 Filed 11-21-13; 8:45 am]

BILLING CODE 6560-50-P